DEPARTMENT OF THE INTERIOR

Bureau of Reclamation

Notice of Availability of a Draft Agency Handbook on the National Environmental Policy Act; Extension of Public Comment Period

AGENCY: Bureau of Reclamation, Interior.

SUMMARY: Notice is hereby given that the public comment period for Reclamation's draft agency handbook is extended 16 days to end on July 5, 2000.

DATES: The end of the public comment period, as originally noted in the Federal Register (65 FR 21210) on April 20, 2000, was to be June 19, 2000. The public comment period is now extended to July 5, 2000.

ADDRESSES: Written comments on the NEPA Handbook should be addressed to Bureau of Reclamation, Office of Policy, Attention: Dr. Darrell Cauley, Manager—Environmental and Planning Coordination, D-5100, Denver Federal Center, PO Box 25007, Denver, CO 80225-0007.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Copies of the NEPA Handbook may also be requested from Theresa Taylor at the above address, via the Internet at nepa@do.usbr.gov, or by calling (303) 445-2826. The entire document is available at http://www.usbr.gov/nepa on the Internet.

Copies of the NEPA Handbook are available for public inspection and review at the following locations:

• Bureau of Reclamation, Reclamation Service Center Library, Building 67, Room 167, Denver Federal Center, 6th and Kipling, Denver, Colorado 80225; telephone: (303) 445-2072

• Natural Resources Library, U.S. Department of the Interior, 1849 C Street NW., Main Interior Building, Washington DC 20240-0001

FOR FURTHER INFORMATION CONTACT: Theresa Taylor, Bureau of Reclamation, Office of Policy, at (303) 445-2826.

SUPPLEMENTARY INFORMATION: Requests for the document have depleted our supply. To accommodate requests, more copies are being printed for distribution. Reclamation's goal is to give the public a reasonable opportunity to review and offer comments on the content of this handbook. The NEPA Handbook was developed to assist Reclamation employees who are required to comply with the National Environmental Policy Act and various other environmental laws as part of their daily work. Reclamation's NEPA Handbook was first published in 1984, not in 1991 as previously reported on April 20, 2000. After Reclamation was re-organized in 1994 to reflect a de-centralization of decision making and authority, the NEPA Handbook needed major revisions to reflect the re-organization and to update the content. The handbook was extensively revised and has gone through various stages of review both internally and with the Council on Environmental Quality. At the commencement of the extended public review period, comments received will be considered as part of a final revision of the handbook.

Dated: May 25, 2000.
Wayne O. Deason,
Associate Director.

[FR Doc. 00-13796 Filed 6-1-00; 8:45 am]

BILLING CODE 4310-MN-P